DEPARTMENT OF ENERGY

Federal Energy Regulatory Commission

[Docket No. ER04-416-001, et al.]

Public Service Company of New Mexico, et al.; Electric Rate and Corporate Filings

April 28, 2004

The following filings have been made with the Commission. The filings are listed in ascending order within each docket classification.

1. Public Service Company of New Mexico

[Docket No. ER04-416-001]

Take notice that on April 23, 2004, Public Service Company of New Mexico (PNM) submitted for filing its response to the Commission's Letter Order issued April 9, 2004, in Docket No. ER04-416-000, concerning certain deficiencies regarding PNM's proposed variations to the FERC pro forma Large Generator Interconnection Procedures (LGIP) and Large Generator Interconnection Agreement (LGIA), filed on January 20, 2004.

PNM states that copies of the filing have been sent to the New Mexico Public Regulation Commission, the New Mexico Attorney General, all of PNM's large generation interconnection customers and entities that have requested large generator interconnection service, and to all parties that have requested or have been granted intervention in this proceeding.

Comment Date: May 14, 2004.

2. Sierra Pacific Power Company; Nevada Power Company

[Docket No. ER04-418-002]

Take notice that on April 23, 2004, Nevada Power Company and Sierra Pacific Power Company (the Nevada Companies) tendered for filing an amendment to its January 20, 2004, filing in the referenced docket, which proposed revisions to its Open Access Transmission Tariff (OATT) with respect to the Large Generator Interconnection Procedures and Agreement issued by the Commission in FERC Order Nos. 2003 and 2003-A. Nevada Companies state that the amendment to the filing provides information responsive to the Commission's deficiency letter issued April 9, 2004, in Docket No. ER04-418-000.

Nevada Companies state that copies of this letter have been served on all parties that have intervened in referenced docket, and the public utilities commissions of Nevada and California.

Comment Date: May 14, 2004.

3. American Transmission Company, LLC

[Docket No. ER04-422-001]

Take notice that on April 23, 2004, American Transmission Company LLC (ATCLLC) tendered for filing an Interconnection and Operating Agreement between the Midwest Independent Transmission System Operator, Inc., ATCLLC and White Pine Copper Refinery, Inc. replacing the two-party agreement filed January 16, 2004, in Docket No. ER04-422-000. ATCLLC requests an effective date of January 16, 2004.

Comment Date: May 14, 2004.

4. Public Service Company of New Mexico

[Docket No. ER04-534-001]

Take notice that on April 23, 2004, Public Service Company of New Mexico (PNM) submitted for filing its Refund Report for services provided prior to the effective date granted by the Commission's order issued April 6, 2004, in Docket No. ER04-534-000, in association with PNM's filing of two firm point-to-point service agreements.

PNM states that copies of the filing have been mailed to the Texas-New Mexico Power Company, the New Mexico Public Regulation Commission and the New Mexico Attorney General. Comment Date: May 14, 2004.

5. New England Power Pool

[Docket No. ER04-756-000]

Take notice that on April 23, 2004, the New England Power Pool (NEPOOL) Participants Committee filed revisions to NEPOOL Market Rule 1 to modify the current criteria for the reimbursement of Internet-Based Communication Systems installation costs. NEPOOL requests a June 1, 2004, effective date.

The NEPOOL Participants Committee states that copies of these materials were sent to the NEPOOL Participants and the New England State governors and regulatory commissions.

Comment Date: May 14, 2004.

6. Southern California Edison Company

[Docket No. ER04-757-000]

Take notice that on April 23, 2004, Southern California Edison Company (SCE) tendered for filing the Amended and Restated Edison-AEPCO Firm Transmission Service Agreement, Second Revised Rate Schedule FERC No. 131 and the Amended and Restated Edison-AEPCO Load Control Agreement, Second Revised Rate Schedule FERC No. 132 between SCE and the Arizona Electric Power Cooperative, Inc. and the Southwest Transmission Cooperative, Inc. SCE requests an effective date of May 1, 2004.

SCE states that copies of this filing were served upon the Public Utilities Commission of the State of California, AEPCO and SWTC.

Comment Date: May 14, 2004.

7. Entergy Services, Inc.

[Docket No. ER04-758-000]

Take notice that on April 23, 2004, Entergy Services, Inc., on behalf of Entergy Arkansas, Inc., (Entergy Arkansas) tendered for filing the Thirty-third Amendment to the Power Coordination, Interchange and Transmission Service Agreement between Entergy Arkansas, and Arkansas Electric Cooperative Corporation, dated March 1, 2004, pursuant to section 205 of the Federal Power Act.

Comment Date: May 14, 2004.

8. Puget Sound Energy, Inc.

[Docket No. ER04-761-000]

Take notice that on April 26, 2004, Puget Sound Energy, Inc. (PSE) tendered for filing proposed revisions to its Open Access Transmission Tariff (OATT), to comply with the Commission's Order No. 2003, Standardization of Interconnection Agreements and Procedures, FERC Stats. & Regs. Preambles ¶ 31,146 (2003) and Order No. 2003-A, Standardization of Interconnection Agreements and Procedures, 106 FERC ¶ 61,220 (March 5, 2004).

PSE states that it has served copies of this filing on the Washington Utilities and Transportation Commission. Additionally, PSE states that it has sent a letter by U.S. mail to all of its Transmission Customers to notify them that this filing has been made and to let them know that a copy of the filing can be obtained on the PSE OASIS.

Date: May 17, 2004.

9. Kandiyohi Power Cooperative

[Docket No. ES04-24-000 and EC04-95-000]

Take notice that on April 8, 2004, Kandiyohi Power Cooperative (Kandiyohi) pursuant to sections 203 and 204 of the Federal Power Act (FPA), 16 U.S.C. 824b and 824c, and Parts 33 and 34 of the Commission's Regulations, 18 CFR parts 33 and 34, filed a request for a no action order with respect to a promissory note issued in 1998 to United Power Association (UPA) and the acquisition from UPA of several substations used, in part for jurisdictional services, without prior Commission authorization. Kandiyohi states that the filing is available for public inspection at its offices in Willmar, Minnesota.

Comment Date: May 7, 2004.

10. South Carolina Public Service Authority

[Docket No. NJ04-3-000]

Take notice that on April 26, 2004, South Carolina Public Service Authority (Santee Cooper) tendered revisions to its open access transmission tariff (OATT) in order to incorporate a Standard Large Generator Interconnection Procedure and a Standard Large Generator Interconnection Agreement, in response to the Commission's Order No. 2003, Standardization of Generator Interconnection Agreements and Procedures, Order No. 2003, 68 FR 49,845 (Aug. 19, 2003), FERC Stats. & Regs., Regulations Preambles 31,146 (2003), order on reh'g, Order No. 2003-A, 69 FR 15,932 (March 26, 2004), FERC Stats. & Regs., Regulations Preambles 31,160 (2004); Notice Clarifying Compliance Procedures, 106 FERC 61,009 (2004).

South Carolina Public Service Authority states that copies of the filing were served upon Santee Cooper's customers under the OATT.

Comment Date: May 17, 2004.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Linda Mitry,
Acting Secretary.

[FR Doc. E4-1029 Filed 5-4-04; 8:45 a.m.]

BILLING CODE 6717-01-P